JUDICIAL CONFERENCE OF THE UNITED STATES

Hearing of the Judicial Conference; Advisory Committee on Criminal Rules

AGENCY: Judicial Conference of the United States Advisory Committee on Criminal Rules.

ACTION: Notice of cancellation of open hearing.

SUMMARY: The following public hearing on proposed amendments to the Federal Rules of Criminal Procedure, has been canceled:

Criminal Rules Hearing, January 11, 2010, in Atlanta, GA.

FOR FURTHER INFORMATION CONTACT: John K. Rabiej, Chief, Rules Committee Support Office, Administrative Office of the United State Courts, Washington, DC 20544, telephone (202) 502-1820.

Dated: December 15, 2009.
John K. Rabiej,
Chief, Rules Committee Support Office.

[FR Doc. E9-30267 Filed 12-21-09; 8:45 am]

BILLING CODE 2210-55-M